DEPARTMENT OF AGRICULTURE

Forest Service

North Mt. Baker-Snoqualmie Resource Advisory Committee (RAC)

AGENCY: Forest Service, USDA.

ACTION: Notice of meetings.

SUMMARY: The North Mt. Baker-Snoqualmie Resource Advisory Committee (RAC) will meet at the Mt. Baker Ranger District Office in Sedro Woolley, Washington. The first meeting will include electing this year's chairperson, followed by reviewing proposed Title II projects. The second meeting will be to complete the review, and prioritize proposal to recommend for FY 2007.

DATES: Tuesday, May 9, and Friday, May 19, 2006. Both meetings will be from 9 a.m. until 4 p.m.

ADDRESSES: Mt. Baker Ranger District Office, 810 State Route 20, Sedro Woolley, Washington.

FOR FURTHER INFORMATION CONTACT: Jon Vanderheyden, Designated Federal Official, USDA Forest Service, Mt. Baker-Snoqualmie National Forest, Mt. Baker Ranger District, 810 State Route 20, Sedro Woolley, WA 9824-1263 (phone: 360-856-5700 extension 201).

SUPPLEMENTARY INFORMATION: All North Mt. Baker-Snoqualmie RAC meetings are open to the public. Interested citizens are encouraged to attend. The North Mt. Baker-Snoqualmie RAC reviews project proposals, and makes recommendations to the Forest Supervisor for projects to be funded by Title II dollars, under Public Law 106-393, H.R. 2389. The Secure Rural Schools and Community Self-Determination Act of 2000, also called the “Payments to States” Act.

Dated: April 10, 2006.
Allen Gibbs,
Acting Designated Federal Official.

[FR Doc. 06-3656 Filed 4-17-06; 8:45 am]

BILLING CODE 3410-11-M